DEPARTMENT OF THE INTERIOR

Minerals Management Service

30 CFR Part 250

[Docket ID: MMS-2007-OMM-0060]

RIN 1010-AD48

Incorporate American Petroleum Institute Hurricane Bulletins

AGENCY: Minerals Management Service (MMS), Interior.

ACTION: Final rule.

SUMMARY: The direct final rule will incorporate by reference three American Petroleum Institute hurricane bulletins into MMS's regulations. The three bulletins supplement the American Petroleum Institute's Recommended Practice 2A-WSD, Recommended Practice for Planning, Designing, and Constructing Fixed Offshore Platforms—Working Stress Design, which contains engineering design principles and good practices for new platforms and assessments of existing platforms. These bulletins are needed to increase survivability during hurricane events by imposing more stringent design and assessment criteria for both new and existing structures located within particular Gulf of Mexico areas. By increasing survivability during hurricane conditions, fewer platforms will be damaged, thereby, protecting critical oil and gas resources and making those resources available after hurricane events.

DATES: Effective Date: This rule becomes effective on May 15, 2008. The incorporation by reference of the publication listed in the regulation was approved by the Director of the Federal Register on May 15, 2008.

FOR FURTHER INFORMATION CONTACT: Kirk Malstrom, Office of Offshore Regulatory Programs, Regulations and Standards Branch, at (703) 787-1751.

SUPPLEMENTARY INFORMATION:

Background

After the 2004 and 2005 hurricane seasons, there was significant damage to the oil and gas infrastructure. There were 123 fixed structures destroyed, one floating facility destroyed, and significant damage to dozens of other fixed and floating structures. The offshore oil and gas industry operating in the Gulf of Mexico (GOM) realized that there was a disparity in the metocean criteria in American Petroleum Institute's (API) Recommended Practice (RP) 2A-WSD, Recommended Practice for Planning, Designing, and Constructing Fixed Offshore Platforms—Working Stress Design, for the central GOM. The metocean criteria are the standards to which structures are designed and assessed to withstand certain meteorological events involving wind, wave, current, and surge. Following the 2005 hurricane season, MMS, the API, and other industry representatives worked collectively to produce the API hurricane bulletins to increase the survivability of Outer Continental Shelf (OCS) structures during hurricanes.

Each hurricane bulletin updates criteria contained within current MMS incorporated-by-reference API documents. The MMS will incorporate the following API Bulletins in § 250.901:

• BULLETIN 2INT-MET, Interim Guidance on Hurricane Conditions in the Gulf of Mexico, updates hurricane metocean conditions (wind, wave, current, and surge) documented in Sections 2.3.4.c and 17.6.2.a of API RP 2A-WSD.

• BULLETIN 2INT-DG, Interim Guidance for Design of Offshore Structures for Hurricane Conditions, contains guidance on how to utilize the updated metocean conditions in Bulletin 2INT-MET for designing new offshore structures required in the following API design documents: RP 2A-WSD; RP 2FPS, Recommended Practice for Planning, Designing and Constructing Floating Production Systems; RP 2RD, Design of Risers for Floating Production Systems and Tension-Leg Platforms; RP 2SK, Design and Analysis of Stationkeeping Systems for Floating Structures; RP 2T, Planning Designing and Constructing Tension Leg Platforms; and BULLETIN 2TD, Guidelines for Tie-downs on Offshore Production Facilities for Hurricane Season.

• BULLETIN 2INT-EX, Interim Guidance for Assessment of Existing Offshore Structures for Hurricane Conditions, gives guidance on how to utilize the updated metocean conditions in Bulletin 2INT-MET for the assessment of existing offshore structures required in the following API design documents: RP 2A-WSD; RP 2FPS; RP 2RD; RP 2SK; RP 2T; and BULLETIN 2TD.

You may inspect these bulletins at the Minerals Management Service, 381 Elden Steet, Room 3313, Herndon, Virginia; or at the National Archives and Records Administration. You may obtain these bulletins from API, 1220 L Street, NW., Washington, DC.

The MMS uses standards, specifications, and recommended practices developed by standard-setting organizations and the oil and gas industry as a means of establishing requirements for activities on the OCS. This practice, known as incorporation by reference, allows us to incorporate the provisions of technical standards into the regulations. The legal effect of incorporation by reference is the material is treated as if the entire document were published in the Federal Register. This material, like any other properly issued regulation, has the force and effect of law. We hold operators/lessees accountable for complying with the documents incorporated by reference in our regulations. We currently incorporate by reference 93 private-sector consensus standards into the offshore operating regulations.

The regulations at 1 CFR part 51 govern how we and other Federal agencies incorporate various documents by reference. These regulations implement the Administrative Procedures Act, 5 U.S.C. 552(a), which allows agencies to incorporate by reference material “reasonably available to the class of persons affected thereby.” Agencies may only incorporate a document by reference by publishing the document title, date, edition, author, publisher, and publication identification number in the Federal Register. Agencies must also gain approval from the Director of the Federal Register for each publication incorporated by reference. Incorporation by reference of a document or publication is limited to the specific edition, supplement, or addendum cited in the regulations.

Under 30 CFR 250.198(a)(2), MMS may update documents incorporated by reference without an opportunity for public comment when we determine that the revisions to a document result in safety improvements, or represent new industry standard technology and do not impose undue cost or burden on the affected parties. The MMS has reviewed these three API bulletins and determined the new editions must be incorporated into the regulations to increase platform survivability and environmental safety. These API bulletins update current MMS incorporated documents and will not impose undue cost or burden on the offshore oil and gas industry. Lessees and operators in the GOM are already using the criteria and guidelines contained in these bulletins to ensure that their new and existing facilities are better designed to meet potential hurricane conditions. Because the regulated community is already using the criteria contained in these bulletins and participated in their development, MMS finds that the incorporation of these bulletins by reference is a minor, technical amendment in which the public is not particularly interested, so that notice and comment on the rulemaking is not necessary under 5 U.S.C. 553(b).

Also, the final rule amends an incorrect citation located in § 250.901(d). The incorrectly referenced standard was superseded by another standard, and the chart in § 250.901(d) was not updated with the correct citation.

Procedural Matters

Regulatory Planning and Review (Executive Order (E.O.) 12866)

This final rule is not a significant rule as determined by the Office of Management and Budget (OMB) and is not subject to review under E.O. 12866.

(1) This final rule will not have an effect of $100 million or more on the economy. It will not adversely affect in a material way the economy, productivity, competition, jobs, the environment, public health or safety, or State, local, or tribal governments or communities.

(2) This final rule will not create a serious inconsistency or otherwise interfere with an action taken or planned by another agency.

(3) This final rule will not alter the budgetary effects of entitlements, grants, user fees, or loan programs or the rights or obligations of their recipients.

(4) This final rule will not raise novel legal or policy issues.

Regulatory Flexibility Act

The Department of the Interior certifies that this final rule will not have a significant economic effect on a substantial number of small entities under the Regulatory Flexibility Act (5 U.S.C. 601 et seq.).

The changes in this final rule will affect lessees and operators of leases and pipeline right-of-way holders in the OCS. This could include about 130 active Federal oil and gas lessees. Small lessees that operate under this rule fall under the Small Business Administration's (SBA) North American Industry Classification System (NAICS) codes 211111, Crude Petroleum and Natural Gas Extraction, and 213111, Drilling Oil and Gas Wells. For these NAICS code classifications, a small company is one with fewer than 500 employees. Based on these criteria, an estimated 70 percent of these companies are considered small.

Nevertheless, changes in this final rule will not have a significant economic effect on a substantial number of small entities because it will not impose undue cost or burden (on the offshore oil and gas industry). Both large and small operators have already begun using and implementing the criteria and guidelines contained in these bulletins. The cost of implementing the standards set forth in these documents is not an undue burden because the resulting assessments and design changes are small when compared to costs of repairing or decommissioning a damaged or destroyed platform.

Your comments are important. The Small Business and Agriculture Regulatory Enforcement Ombudsman and 10 Regional Fairness Boards were established to receive comments from small businesses about Federal agency enforcement actions. The Ombudsman will annually evaluate the enforcement activities and rate each agency's responsiveness to small business. If you wish to comment on the actions of MMS, call 1-888-734-3247. You may comment to the Small Business Administration without fear of retaliation. Disciplinary action for retaliation by an MMS employee may include suspension or termination from employment with the DOI.

Small Business Regulatory Enforcement Fairness Act

The final rule is not a major rule under 5 U.S.C. 804(2) of the Small Business Regulatory Enforcement Fairness Act. This final rule:

a. Will not have an annual effect on the economy of $100 million or more.

b. Will not cause a major increase in costs or prices for consumers, individual industries, Federal, State, or local government agencies, or geographic regions.

c. Will not have significant adverse effects on competition, employment, investment, productivity, innovation, or the ability of U.S.-based enterprises to compete with foreign-based enterprises.

Unfunded Mandates Reform Act

This final rule will not impose an unfunded mandate on State, local, or tribal governments or the private sector of more than $100 million per year. The final rule will not have a significant or unique effect on State, local, or tribal governments or the private sector. A statement containing the information required by the Unfunded Mandates Reform Act (2 U.S.C. 1531 et seq.) is not required.

Takings Implication Assessment (E.O. 12630)

Under the criteria in E.O. 12630, this final rule will not have significant takings implications. The final rule is not a governmental action capable of interference with constitutionally protected property rights. A takings implication assessment is not required.

Federalism (E.O. 13132)

Under the criteria in E.O. 13132, this final rule will not have sufficient federalism implications to warrant the preparation of a Federalism Assessment. This final rule will not substantially and directly affect the relationship between the Federal and State governments. To the extent that State and local governments have a role in OCS activities, this final rule will not affect that role. A Federalism Assessment is not required.

Civil Justice Reform (E.O. 12988)

This final rule complies with the requirements of E.O. 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (E.O. 13175)

Under the criteria in E.O. 13175, we have evaluated this final rule and determined that it has no potential effects on federally recognized Indian tribes. There are no Indian or tribal lands in the OCS.

Paperwork Reduction Act

The proposed revisions do not contain any information collection subject to the Paperwork Reduction Act (PRA) and does not require a submission to OMB for review and approval under section 3507(d) of the PRA.

National Environmental Policy Act

This rule does not constitute a major Federal action significantly affecting the quality of the human environment. The MMS has analyzed this rule under the criteria of the National Environmental Policy Act and 516 Departmental Manual 2.3A and determined that it falls within the categorical exclusion for “regulations * * * that are an administrative, financial, legal, technical, or procedural nature and whose environmental effects are too broad, speculative, or conjectural to lend themselves to meaningful analysis (516 DM 2, App. 1.10). The MMS completed a Categorical Exclusion Review for this action and concluded that none of the exceptional circumstances set forth in 516 DM 2 Appendix 2, exist, therefore, preparation of an environmental analysis or environmental impact statement will not be required.

Data Quality Act

In developing this rule, we did not conduct or use a study, experiment, or survey requiring peer review under the Data Quality Act (Pub. L. 106-554, app. C section 515, 114 Stat. 2763, 2763A-153-154).

Effects on the Energy Supply (E.O. 13211)

This rule is not a significant energy action under the definition in E.O. 13211. A Statement of Energy Effects is not required.

List of Subjects in 30 CFR 250

Administrative practice and procedure, Environmental protection, Public lands—mineral resources, Incorporation by reference, Reporting and recordkeeping requirements.

Dated: March 20, 2008.
C. Stephen Allred,
Assistant Secretary—Land and Minerals Management.

For the reasons stated in the preamble, Minerals Management Service (MMS) amends 30 CFR part 250 as follows:

PART 250—OIL AND GAS AND SULPHUR OPERATIONS IN THE OUTER CONTINENTAL SHELF

1. The authority citation for part 250 is revised to read as follows:

Authority: 31 U.S.C. 9701, 43 U.S.C. 1334.

2. In § 250.198, the following changes are made in the table in paragraph (e):

A. Add entries in alphanumerical order for API Bulletin 2INT-DG, API Bulletin 2INT-EX, and API Bulletin 2INT-MET as set forth below;

B. Revise entries in alphanumerical order for ACI Standard 318-95, ACI 357R-84, ANSI/AISC 360-05, API RP 2A-WSD, API RP 2FPS, API RP 2RD, API RP 2SK, API RP 2SM, API RP 2T, ASTM Standard C 33-99a, ASTM Standard C 94/C 94M-99, ASTM Standard C 150-99, ASTM Standard C 330-99, ASTM Standard C 595-98, AWS D1.1:2000, AWS D1.4-98, AWS D3.6M:1999, NACE Standard MR0175-2003, and NACE Standard RP0176-2003.

§ 250.198 Documents incorporated by reference.

* * * * *

(e) * * *

Title of documents | Incorporated by reference at
ACI Standard 318-95, Building Code Requirements for Reinforced Concrete (ACI 318-95) and Commentary (ACI 318R-95) | § 250.901(a), (d).
ACI 357R-84, Guide for the Design and Construction of Fixed Offshore Concrete Structures, 1984; reapproved 1997 | § 250.901(a), (d).
ANSI/AISC 360-05, Specification for Structural Steel Buildings | § 250.901(a), (d).
* * * * * * *
API Bulletin 2INT-DG, Interim Guidance for Design of Offshore Structures for Hurricane Conditions, May 2007 | § 250.901(a), (d).
API Bulletin 2INT-EX, Interim Guidance for Assessment of Existing Offshore Structures for Hurricane Conditions, May 2007 | § 250.901(a), (d).
API Bulletin 2INT-MET, Interim Guidance on Hurricane Conditions in the Gulf of Mexico, May 2007 | § 250.901(a), (d).
* * * * * * *
API RP 2A-WSD, Recommended Practice for Planning, Designing and Constructing Fixed Offshore Platforms—Working Stress Design, Twenty-first Edition, December 2000; Errata and Supplement 1, December 2002; Errata and Supplement 2, October 2005, API Stock No. G2AWSD | § 250.901(a), (d); § 250.908(a); § 250.920(a), (b), (c), (e).
* * * * * * *
API RP 2FPS, RP for Planning, Designing, and Constructing, Floating Production Systems | § 250.901(a), (d).
API RP 2RD, Recommended Practice for Design of Risers for Floating Production Systems (FPSs) and Tension-Leg Platforms (TLPs), First Edition, June 1998; reaffirmed May 2006, API Stock No. G02RD1 | § 250.800(b)(2); § 250.901(a), (d); § 250.1002(b)(5).
API RP 2SK, Recommended Practice for Design and Analysis of Stationkeeping Systems for Floating Structures, Third Edition, October 2005, API Stock No. G2SK03 | § 250.800(b)(3); § 250.901(a), (d).
API RP 2SM, Recommended Practice for Design, Manufacture, Installation, and Maintenance of Synthetic Fiber Ropes for Offshore Mooring, First Edition, March 2001, API Stock No. G02SM1 | § 250.901(a), (d).
API RP 2T, Recommended Practice for Planning, Designing, and Constructing Tension Leg Platforms, Second Edition, August 1997, API Stock No. G02T02 | § 250.901(a), (d).
* * * * * * *
ASTM Standard C 33-99a, Standard Specification for Concrete Aggregates | § 250.901(a), (d).
ASTM Standard C 94/C 94M-99, Standard Specification for Ready-Mixed Concrete | § 250.901(a), (d).
ASTM Standard C 150-99, Standard Specification for Portland Cement | § 250.901(a), (d).
ASTM Standard C 330-99, Standard Specification for Lightweight Aggregates for Structural Concrete | § 250.901(a), (d).
ASTM Standard C 595-98, Standard Specification for Blended Hydraulic Cements | § 250.901(a), (d).
AWS D1.1:2000, Structural Welding Code—Steel | § 250.901(a), (d).
AWS D1.4-98, Structural Welding Code—Reinforcing Steel | § 250.901(a), (d).
AWS D3.6M:1999, Specification for Underwater Welding | § 250.901(a), (d).
NACE Standard MR0175-2003, Item No. 21302, Standard Material Requirements, Metals for Sulfide Stress Cracking and Stress Corrosion Cracking Resistance in Sour Oilfield Environments | § 250.901(a), § 250.490(p)(2).
NACE Standard RP0176-2003, Item No. 21018, Standard Recommended Practice, Corrosion Control of Steel Fixed Offshore Structures Associated with Petroleum Production | § 250.901(a), (d).

3. Amend § 250.901 as follows:

A. Redesignate paragraphs (a)(4) through (a)(20) as (a)(7) through (a)(23), respectively,

B. Add new paragraphs (a)(4), (5), and (6),

C. Revise redesignated paragraphs (a)(7) and (a)(23), and

D. Revise paragraph (d)

The additions and revisions read as follows:

§ 250.901 What industry standards must your platform meet?

(a) * * *

(4) American Petroleum Institute (API) Bulletin 2INT-DG, Interim Guidance for Design of Offshore Structures for Hurricane Conditions, (incorporated by reference as specified in § 250.198);

(5) API Bulletin 2INT-EX, Interim Guidance for Assessment of Existing Offshore Structures for Hurricane Conditions, (incorporated by reference as specified in § 250.198);

(6) API Bulletin 2INT-MET, Interim Guidance on Hurricane Conditions in the Gulf of Mexico, (incorporated by reference as specified in § 250.198);

(7) API Recommend Practice (RP) 2A-WSD, RP for Planning, Designing, and Constructing Fixed Offshore Platforms—Working Stress Design (incorporated by reference as specified in § 250.198);

* * * * *

(23) NACE Standard RP0176-2003, Item No. 21018, Standard Recommended Practice, Corrosion Control of Steel Fixed Offshore Structures Associated with Petroleum Production.

* * * * *

(d) The following chart summarizes the applicability of the industry standards listed in this section for fixed and floating platforms:

Industry standard | Applicable to * * *
(1) ACI Standard 318, Building Code Requirements for Reinforced Concrete, Plus Commentary; | Fixed and floating platform, as appropriate.
(2) ANSI/AISC 360-05, Specification for Structural Steel Buildings;
(3) API Bulletin 2INT-DG, Interim Guidance for Design of Offshore Structures for Hurricane Conditions;
(4) API Bulletin 2INT-EX, Interim Guidance for Assessment of Existing Offshore Structures for Hurricane Conditions;
(5) API Bulletin 2INT-MET, Interim Guidance on Hurricane Conditions in the Gulf of Mexico;
(6) API RP 2A-WSD, RP for Planning, Designing, and Constructing Fixed Offshore Platforms—Working Stress Design;
(7) ASTM Standard C33-99a, Standard Specification for Concrete Aggregates;
(8) ASTM Standard C94/C94M-99, Standard Specification for Ready-Mixed Concrete;
(9) ASTM Standard C150-99, Standard Specification for Portland Cement;
(10) ASTM Standard C330-99, Standard Specification for Lightweight Aggregates for Structural Concrete;
(11) ASTM Standard C 595-98, Standard Specification for Blended Hydraulic Cements;
(12) AWS D1.1, Structural Welding Code—Steel;
(13) AWS D1.4, Structural Welding Code—Reinforcing Steel;
(14) AWS D3.6M, Specification for Underwater Welding;
(15) NACE Standard RP 0176-2003, Standard Recommended Practice (RP), Corrosion Control of Steel Fixed Offshore Platforms Associated with Petroleum Production;
(16) ACI 357R, Guide for the Design and Construction of Fixed Offshore Concrete Structures; | Fixed platforms.
(17) API RP 14J, RP for Design and Hazards Analysis for Offshore Production Facilities; | Floating platforms.
(18) API RP 2FPS, RP for Planning, Designing, and Constructing, Floating Production Systems;
(19) API RP 2RD, Design of Risers for Floating Production Systems (FPSs) and Tension-Leg Platforms (TLPs);
(20) API RP 2SK, RP for Design and Analysis of Station Keeping Systems for Floating Structures;
(21) API RP 2T, RP for Planning, Designing, and Constructing Tension Leg Platforms;
(22) API RP 2SM, RP for Design, Manufacture, Installation, and Maintenance of Synthetic Fiber Ropes for Offshore Mooring.

[FR Doc. E8-7777 Filed 4-14-08; 8:45 am]

BILLING CODE 4310-MR-P